DEPARTMENT OF ENERGY

Energy Information Administration

Agency Information Collection Extension

AGENCY: U.S. Energy Information Administration (EIA), U.S. Department of Energy (DOE).

ACTION: Notice.

SUMMARY: EIA submitted an information collection request for extension as required by the Paperwork Reduction Act of 1995. EIA requests a three-year extension with changes to the information collection EIA-882T, “Generic Clearance for Questionnaire Testing and Research.” This collection allows EIA to conduct field testing of pilot surveys, cognitive interviews, respondent debriefings, usability interviews, field tests, focus groups, pretesting of questionnaires and evaluate the quality of the data collected on EIA survey forms.

DATES: Comments on this information collection must be received no later than March 21, 2019. If you anticipate any difficulties in submitting your comments by the deadline, contact the DOE Desk Officer at (202) 395-0710.

ADDRESSES: Written comments should be sent to: DOE Desk Officer: Brandon DeBruhl, Office of Information and Regulatory Affairs, Office of Management and Budget, New Executive Office Building, Room 10102, 735 17th Street NW, Washington, DC 20503. Brandon_F_DeBruhl@omb.eop.gov.

and to

Jacob Bournazian, U.S. Energy Information Administration, 1000 Independence Avenue SW EI-21, Washington, DC 20585. jacob.bournazian@eia.gov.

FOR FURTHER INFORMATION CONTACT: Jacob Bournazian, (202) 586-5562, email at jacob.bournazian@eia.gov.

SUPPLEMENTARY INFORMATION:

This information collection request contains

(1) OMB No.: 1905-0186;

(2) Information Collection Request Title: Generic Clearance for Questionnaire Testing and Research;

(3) Type of Request: Three-year extension with changes;

(4) Purpose: The EIA-882T Information Collection Request provides EIA with the necessary cognitive research tools to utilize qualitative and quantitative methodologies to assess the ability of companies to report accurate information on survey instruments and validate the quality of the data collected on EIA forms. This clearance expands the available cognitive methods to include qualitative studies and pre-testing/field testing for conducting cognitive research. EIA uses qualitative studies for exploratory investigations in order to decide on the appropriate data collection mode, interview contact approach, or any other issue when little is known about a problem or the best approach to implement a data collection program. EIA conducts pretests when developing new questions or new survey questionnaires to see how respondents answer questions, interpret terminology, and identify potential data quality problems. Through this clearance, EIA will conduct pretest surveys, pilot surveys, respondent debriefings, cognitive interviews, usability interviews, and focus group discussions. By applying these research methodologies, EIA is able to improve the quality of data collected to measure market activity, assess supply conditions in energy markets, reduce or minimize respondent burden, increase agency efficiency, and improve responsiveness to the public. This collection authority also improves EIA's ability to collect and publish relevant and timely information that meets the data needs of EIA's customers.

(5) Annual Estimated Number of Respondents: 1,800;

(6) Annual Estimated Number of Total Responses: 1,800;

(7) Annual Estimated Number of Burden Hours: 2,220;

(8) Annual Estimated Reporting and Recordkeeping Cost Burden: $164,324.

The cost of the burden hours is estimated to be $164,324. EIA estimates that there are no additional costs to respondents associated with the surveys other than the costs associated with the burden hours.

Statutory Authority: 15 U.S.C. 772(b) and 42 U.S.C. 7101 et seq.

Signed in Washington, DC, on February 13, 2019.
Nanda Srinivasan,
Director, Office of Survey Development and Statistical Integration, U.S. Energy Information Administration.

[FR Doc. 2019-02648 Filed 2-15-19; 8:45 am]

BILLING CODE 6450-01-P